DEPARTMENT OF ENERGY

Federal Energy Regulatory Commission

Combined Notice of Filings

Take notice that the Commission has received the following Natural Gas Pipeline Rate and Refund Report filings:

Docket Numbers: RP21-244-000.

Applicants: Gulf South Pipeline Company, LLC.

Description: § 4(d) Rate Filing: Amendment to Neg Rate Agmt (Southern 49811) to be effective 11/24/2020.

Filed Date: 11/24/20.

Accession Number: 20201124-5006.

Comments Due: 5 p.m. ET 12/7/20.

Docket Numbers: RP21-246-000.

Applicants: Colorado Interstate Gas Company, L.L.C.

Description: § 4(d) Rate Filing: LUF Quarterly Update to be effective 1/1/2021.

Filed Date: 11/24/20.

Accession Number: 20201124-5018

Comments Due: 5 p.m. ET 12/7/20.

Docket Numbers: RP21-247-000

Applicants: Young Gas Storage Company, Ltd.

Description: § 4(d) Rate Filing: Annual Fuel and L&U Update Filing 2021 to be effective 1/1/2021.

Filed Date: 11/24/20.

Accession Number: 20201124-5020.

Comments Due: 5 p.m. ET 12/7/20.

Docket Numbers: RP21-248-000.

Applicants: El Paso Natural Gas Company, L.L.C.

Description: § 4(d) Rate Filing: Article 11.2(a) Inflation Adjustment Filing 2021 to be effective 1/1/2021.

Filed Date: 11/24/20.

Accession Number: 20201124-5022.

Comments Due: 5 p.m. ET 12/7/20.

Docket Numbers: RP21-249-000.

Applicants: Young Gas Storage Company, Ltd.

Description: § 4(d) Rate Filing: ATC Rate Adjustment (2020-2021) to be effective 12/1/2020.

Filed Date: 11/24/20.

Accession Number: 20201124-5024.

Comments Due: 5 p.m. ET 12/7/20.

Docket Numbers: RP21-250-000.

Applicants: Kinder Morgan Louisiana Pipeline LLC.

Description: § 4(d) Rate Filing: Modifications to Tariff Filing—Gas Quality to be effective 1/1/2021.

Filed Date: 11/24/20.

Accession Number: 20201124-5027.

Comments Due: 5 p.m. ET 12/7/20.

Docket Numbers: RP21-251-000.

Applicants: Kinder Morgan Louisiana Pipeline LLC.

Description: § 4(d) Rate Filing: Periodic Rate Adjustment to be effective 1/1/2021.

Filed Date: 11/24/20.

Accession Number: 20201124-5028.

Comments Due: 5 p.m. ET 12/7/20.

Docket Numbers: RP21-252-000.

Applicants: El Paso Natural Gas Company, L.L.C.

Description: § 4(d) Rate Filing: Annual Fuel and L&U Filing 2021 to be effective 1/1/2021.

Filed Date: 11/24/20.

Accession Number: 20201124-5031.

Comments Due: 5 p.m. ET 12/7/20.

Docket Numbers: RP21-253-000.

Applicants: Colorado Interstate Gas Company, L.L.C.

Description: § 4(d) Rate Filing: ATC Update Filing—Young and Totem 2020-2021 to be effective 12/1/2020.

Filed Date: 11/24/20.

Accession Number: 20201124-5033.

Comments Due: 5 p.m. ET 12/7/20.

Docket Numbers: RP21-254-000.

Applicants: Kern River Gas Transmission Company.

Description: § 4(d) Rate Filing: 2020 Non-Leap Year Rates Filing to be effective 1/1/2021.

Filed Date: 11/24/20.

Accession Number: 20201124-5134.

Comments Due: 5 p.m. ET 12/7/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2020.
Nathaniel J. Davis, Sr.,
Deputy Secretary.

[FR Doc. 2020-26564 Filed 12-1-20; 8:45 am]

BILLING CODE 6717-01-P